DEPARTMENT OF THE INTERIOR

Bureau of Land Management

[NM 121884 LLNMF02000 L14300000.EU0000]

Notice of Realty Action, Sale of Public Land

AGENCY: Bureau of Land Management, Interior.

ACTION: Notice of realty action.

SUMMARY: The Bureau of Land Management (BLM) proposes a direct (non-competitive) sale of a parcel of public land, containing 0.27 acres located in Rio Arriba County, New Mexico. The described public land has been examined, and through the public-supported land use planning process, has been determined to be suitable for disposal by direct sale pursuant to Section 203 of the Federal Land Policy and Management Act of 1976 (90 Stat. 2750, 43 U.S.C. 1713), as amended, at no less than the appraised fair market value. This sale will resolve an inadvertent trespass on public land. An appraisal of the subject parcel's fair market value is being prepared, and when completed, will be available for review at the BLM's Taos Field Office, 226 Cruz Alta Road, Taos, New Mexico 87571. Upon the completion and approval of the appraisal report, a subsequent notice will be published in the local newspaper specifying the fair market value.

DATES: Interested parties may submit comments to the BLM Taos Field Office Manager at the above address. Comments must be received by no later than April 17, 2009. The land will not be offered for sale until at least May 4, 2009.

ADDRESSES: Address all written comments concerning this Notice to Sam DesGeorges, Taos Field Office Manager, 226 Cruz Alta Road, Taos, New Mexico 87571.

FOR FURTHER INFORMATION CONTACT: Francina Martinez, Realty Specialist, at the above address or at (575) 758-8851.

SUPPLEMENTARY INFORMATION: The following described public land in Rio Arriba County, New Mexico, has been determined to be suitable for sale at not less than fair market value under Section 203 of the Federal Land Policy and Management Act of 1976, as amended (90 Stat. 2750, 43 U.S.C. 1713) and 43 Code of Federal Regulations 2711.3-3(a)(5). The proposed sale would resolve the inadvertent trespass upon the land. It has been determined that resource values will not be affected by the disposal of this parcel of public land.

The parcel is described as:

New Mexico Principal Meridian

T. 23 N., R. 10 E.,

Sec. 28, lot 147.

The area described contains 0.27 acres, more or less, in Rio Arriba County.

The patent, when issued, will contain a reservation to the United States for ditches and canals under the Act of March 30, 1890 and a reservation for all minerals. The parcel is being offered by direct sale to Mr. Frank Rendon of Rio Arriba County New Mexico, based on historic use and added improvements. The parcel has been used as a portion of the residence. Failure or refusal by Frank Rendon to submit the required fair market appraisal amount within 180 days of the sale of the land will constitute a waiver of this preference consideration.

Upon publication of this Notice in the Federal Register, the land described above will be segregated from appropriation under the public land laws, including the General Mining Laws. The segregation will end upon issuance of the patent or 270 days from the date of publication, whichever occurs first.

Comments must be received by the BLM Taos Field Manager, Taos Field Office, at the address stated above, on or before the date stated above. Only written comments will be accepted. Before including your address, phone number, e-mail address, or other personal identifying information in your comments, you should be aware that your entire comments—including your personal identifying information—may be made publicly available at any time. While you can ask us in your comments to withhold your personal identifying information from public review, we cannot guarantee that we will be able to do so. Any adverse comments will be reviewed by the Taos Field Manager, who may sustain, vacate, or modify this realty action. In the absence of any objects, or adverse comments, this proposed realty action will become final determination of the Department of the Interior.

Authority: 43 CFR 2710, subpart 2711-3-3(a)(5).

Sam DesGeorges,
Taos Field Manager.

[FR Doc. E9-4472 Filed 3-2-09; 8:45 am]

BILLING CODE 4310-OW-P